DEPARTMENT OF ENERGY

Federal Energy Regulatory Commission

Combined Notice of Filings #2

Take notice that the Commission received the following electric rate filings:

Docket Numbers: ER12-1173-000; ER12-1173-001; ER12-1173-002.

Applicants: PJM Interconnection, L.L.C., American Electric Power Service Corporation.

Description: American Electric Power Service Corporation on behalf of Indiana Michigan Power Company submits Motion to Withdraw Rate Schedule and Terminate Proceeding.

Filed Date: 2/25/13.

Accession Number: 20130225-5184.

Comments Due: 5 p.m. ET 3/12/13.

Docket Numbers: ER13-985-000.

Applicants: PJM Interconnection, L.L.C.

Description: Original Service Agreement No. 3499; Queue No. Y1-063 to be effective 1/30/2013.

Filed Date: 2/26/13.

Accession Number: 20130226-5053.

Comments Due: 5 p.m. ET 3/19/13.

Docket Numbers: ER13-986-000.

Applicants: PJM Interconnection, L.L.C.

Description: Original Service Agreement No. 3500; Queue No. Y1-064 to be effective 1/30/2013.

Filed Date: 2/26/13.

Accession Number: 20130226-5054.

Comments Due: 5 p.m. ET 3/19/13.

Docket Numbers: ER13-987-000.

Applicants: Midwest Independent Transmission System Operator, Inc.

Description: Midwest Independent Transmission System Operator, Inc. submits tariff filing per 35.13(a)(2)(iii: 02-26-2013 SA 2350 ITC-WM Renewable Energy Amended GIA to be effective 2/27/2013.

Filed Date: 2/26/13.

Accession Number: 20130226-5100.

Comments Due: 5 p.m. ET 3/19/13.

Docket Numbers: ER13-988-000.

Applicants: Northern States Power Company, a Minnesota corporation.

Description: Northern States Power Company, a Minnesota corporation submits Notice of Cancellation of Rate Schedule No. 524, et. al. with City of Brownton, Minnesota.

Filed Date: 2/26/13.

Accession Number: 20130226-5113.

Comments Due: 5 p.m. ET 3/19/13.

Take notice that the Commission received the following electric reliability filings.

Docket Numbers: RD13-5-000.

Applicants: North American Electric Reliability Corporation.

Description: Supplemental Information to the North American Electric Reliability Corporation Compliance Filing in Response to Order on Violation Severity Levels and Violation Risk Factors Proposed by the ERO.

Filed Date: 2/15/13.

Accession Number: 20130215-5097.

Comments Due: 5 p.m. ET 3/8/13.

Docket Numbers: RD13-6-000.

Applicants: North American Electric Reliability Corporation.

Description: Petition of the North American Electric Reliability Corporation for Approval of Proposed Reliability Standard VAR-001-3—Voltage and Reactive Control.

Filed Date: 2/26/13.

Accession Number: 20130226-5108.

Comments Due: 5 p.m. ET 3/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2013.
Nathaniel J. Davis, Sr.,
Deputy Secretary.

[FR Doc. 2013-05530 Filed 3-8-13; 8:45 am].

BILLING CODE 6717-01-P